DEPARTMENT OF ENERGY

Federal Energy Regulatory Commission

[Docket No. RP03-625-000]

Chandeleur Pipe Line Company; Notice of Offer of Settlement

March 18, 2004.

Take notice that on March 15, 2004, Chandeleur Pipe Line Company (Chandeleur), pursuant to Rule 602 of the Commission's Rules of Practice and Procedure, 18 CFR 385.602, tendered for filing an Offer of Settlement and Stipulation and Agreement for approval by the Commission in this proceeding.

Chandeleur states that the Settlement Agreement resolves all aspects of Chandeleur's cost of service and applicable rate design. Chandeleur further points out that it will provide rate certainty to Chandeleur and all shippers that utilize Chandeleur's transportation services.

Chandeleur states that copies of the filing have been served upon all participants on the official service list and upon all jurisdictional customers and interested parties.

Any person desiring to make comments in this proceeding the initial comments must be filed with the Commission on or before March 25, 2004 and reply comments due on or before March 30, 2004.

Magalie R. Salas,
Secretary.

[FR Doc. E4-662 Filed 3-24-04; 8:45 am]

BILLING CODE 6717-01-P